DEPARTMENT OF TRANSPORTATION

Federal Aviation Administration

14 CFR Part 71

[Docket No. FAA-2006-25822; Airspace Docket No. 06-AWP-16]

RIN 2120-AA66

Proposed Revision of Class D Airspace; Mesa, AZ

AGENCY: Federal Aviation Administration (FAA), DOT.

ACTION: Notice of Proposed Rulemaking.

SUMMARY: This action proposes to revise Class D airspace at Mesa, AZ, Falcon Field Airport. The airspace would be modified to accommodate general aviation pilots transitioning the Phoenix area as described in the forthcoming proposed Phoenix Class B airspace redesign. Revising the Falcon Field airspace will provide a wider corridor for general aviation pilots to transition north and south beneath the proposed Phoenix Class B airspace and remain west of the Falcon Field Airport Class D airspace.

DATES: Comments must be received on or before December 11, 2006.

ADDRESSES: Send comments on this proposal to the Docket Management System, U.S. Department of Transportation, Room Plaza 401, 400 Seventh Street, SW., Washington, DC 20590-0001. You must identify the docket number FAA-2006-25822; Airspace Docket No. 06-AWP-16, at the beginning of your comments. You may also submit comments on the Internet at http://dms.dot.gov.

FOR FURTHER INFORMATION CONTACT: Francie Hope, Airspace Specialist, Western Terminal Service Area, Federal Aviation Administration, 15000 Aviation Boulevard, Lawndale, California 90261; telephone (310) 725-6502.

SUPPLEMENTARY INFORMATION:

Comments Invited

Interested parties are invited to participate in this proposed rulemaking by submitting such written data, views or arguments as they may desire. Comments that provide the factual basis supporting the views and suggestions presented are particularly helpful in developing reasoned regulatory decisions on the proposal. Comments are specifically invited on the overall regulatory, aeronautical, economic, environmental and energy-related aspects of the proposal.

Communications should identify both docket numbers (FAA Docket No. FAA-2006-25822 and Airspace Docket No. 06-AWP-16) and be submitted in triplicate to the Docket Management System (see ADDRESSES section for address and phone number). You may also submit comments through the Internet at http://dms.dot.gov.

Commenters wishing the FAA to acknowlege receipt of their comments on this action must submit with those comments a self-addressed, stamped postcard on which the following statement is made: “Comments to FAA Docket No. FAA-2006-25822 and Airspace Docket No. 06-AWP-16.” The postcard will be date/time stamped and returned to the commenter.

All communications received on or before the specified closing date for comments will be considered before taking action on the proposed rule. The proposal contained in this action may be changed in light of the comments received. All comments submitted will be available for examination in the public docket both before and after the closing date for comments. A report summarizing each substantive public contact with FAA personnel concerned with this rulemaking will be filed in the docket.

Availability of NPRMs

An electronic copy of this document may be downloaded through the Internet at http://dms.dot.gov. Recently published rulemaking documents can also be accessed through the FAA's Web page at http://www.faa.gov. or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Western Terminal Service Area, Federal Aviation Administration, 15000 Aviation Boulevard, Lawndale, California 90261.

Persons interested in being placed on a mailing list for future NPRM's should contact the FAA's Office of Rulemaking, (202) 267-9677, for a copy of Advisory Circular No. 11-2A, Notice of Proposed Rulemaking Distribution System, which describes the application procedure.

Background

Phoenix Class B airspace is in the process of being redesigned. Assuming establishment of the redesign, the eastern boundaries of Class B will change, resulting in an airspace area designated with a floor of 2,700 feet Mean Sea Level (MSL) between six nautical miles and approximately 9.19 nautical miles east of Phoenix VORTAC.

Currently, the Mesa Falcon Field Class D airspace is within a 4.3 nautical mile radius of the Mesa Falcon Field Airport ARP (Airport Reference Point) from the surface to less than 3,400 feet MSL. Class B airspace with a floor of 3,000 feet MSL is captured between the visual reference points of Dobson Road and Gilbert Road, excluding the Mesa Falcon Field Class D airspace. Beneath this airspace area is a suggested VFR flyway utilized by general aviation pilots to traverse the Phoenix area at 2,500 feet MSL.

In the proposed Class B airspace redesign, much of the 3,000 feet MSL airspace floor with change to 2,700 feet MSL. In order to provide the widest possible corridor of airspace of general aviation use under 2,700 feet MSL, it is proposed that a western boundary of Mesa Falcon Field Class D airspace be designated at Gilbert Road.

In addition to this available airspace below 2,700 feet MSL, the proposed suggested VFR flyway utilized by general aviation will be moved east of Gilbert Road over Mesa Falcon Field Class D airspace at 3,500 feet MSL, which will be below the Class B floor of 4,000 feet MSL, thus providing a designated suggested VFR flyway as well as more transition area for general aviation below the 2,700 feet MSL Class B airspace.

The Proposal

The FAA is proposing an amendment to Title 14 Code of Federal Regulations (14 CFR) part 71 to revise the Class D airspace area. Utilizing a 6-nautical-mile Distance Measuring Equipment (DME) arc from the Phoenix VORTAC eastward to Gilbert Road, the proposed Class B airspace, in association with this proposed Class D airspace area revision, would provide a similar general aviation airspace transition area between approximately 3.17 and 5 nautical miles wide beneath its floor of 2,700 feet MSL. This area encompasses a small portion of the Mesa Falcon Field Airport Class D airspace area.

In order to accommodate general aviation transitioning north and south below the proposed Class B airspace, and provide an eastern visual boundary and the widest possible corridor of VFR airspace under 2,700 feet MSL between the 6-nautical-mile DME arc and Gilbert Road, it is proposed to revise the Class D airspace to extend only as far west as Gilbert Road; thus allowing aircraft to remain below Class B airspace and outside and to the west of Class D airspace during its hours of operation.

Class D airspace areas are published in Paragraph 5000 of FAA Order 7400.9P dated September 1, 2006, and effective September 15, 2006, which is incorporated by reference in 14 CFR 71.1. The Class D airspace designation listed in this document would be published subsequently in this Order.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., 389.

§ 71.1 [Amended]

2. The incorporation by reference in 14 CFR 71.1 of Federal Aviation Administration Order 7400.9P, Airspace Designations and Reporting Points, dated September 1, 2006, and effective September 15, 2006, is amended as follows:

Paragraph 5000 Class D Airspace.

* * * * *

AWP AZ D Mesa, AZ [Revised]

Mesa, Falcon Field, AZ

(Lat. 33°27′39″ N, long. 111°43′42″ W)

That airspace extending upward from the surface to but not including 3,400 feet MSL beginning at lat. 33°24′38″ N, long. 111°47′23″ W; then north to lat. 33°30′40″ N, long. 111°47′23″ W; then northeast, southeast, and southwest along a 4.3-mile radius of Falcon Field Airport, to lat. 33°24′38″ N, long. 111°47′23″ W. This Class D airspace area is effective during the specific dates and times established in advance by a Notice to Airmen. The effective date and time will thereafter be continuously published in the Airport/Facility Directory.

* * * * *

Issued in Los Angeles, California, on October 10, 2006.
Leonard A. Mobley,
Acting Director, Western Terminal Operations.

[FR Doc. 06-8848 Filed 10-24-06; 8:45 am]

BILLING CODE 4910-13-M